DEPARTMENT OF HOMELAND SECURITY

Coast Guard

[USCG 2003-14779]

Information Collection Under Review by the Office of Management and Budget (OMB): OMB Control Numbers 1625-0070, 1625-0047, and 1625-0084

AGENCY: Coast Guard, DHS.

ACTION: Request for comments.

SUMMARY: In compliance with the Paperwork Reduction Act of 1995, this request for comments announces that the Coast Guard has forwarded the three Information Collection Requests (ICRs) abstracted below to the Office of Information and Regulatory Affairs (OIRA) of the Office of Management and Budget (OMB) for review and comment. (The Coast Guard has withdrawn a fourth ICR (1625-0077) under this docket number and will revise it and resubmit it to OMB for approval separately.) Our ICRs describe the information we seek to collect from the public. Review and comment by OIRA ensures that we impose only paperwork burdens commensurate with our performance of duties.

DATES: Please submit comments on or before July 18, 2003.

ADDRESSES: To make sure that your comments and related material do not enter the docket (USCG 2003-14779) more than once, please submit them by only one of the following means:

(1)(a) By mail to the Docket Management Facility, U.S. Department of Transportation, room PL-401, 400 Seventh Street, SW., Washington, DC 20590-0001. (b) By mail to OIRA, 725 17th Street, NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2251 and (b) OIRA at 202-395-5806, or e-mail to OIRA at oira_docket@omb.eop.gov attention: Desk Officer for the Coast Guard.

(4)(a) Electronically through the Web site for the Docket Management System at http://dms.dot.gov. (b) OIRA does not have a Web site on which you can post your comments.

The Facility maintains the public docket for this notice. Comments and material received from the public, as well as documents mentioned in this notice as being available in the docket, will become part of this docket and will be available for inspection or copying at room PL-401 (Plaza level), 400 Seventh Street, SW., Washington, DC, between 9 a.m. and 5 p.m., Monday through Friday, except Federal holidays. You may also find this docket on the Internet at http://dms.dot.gov.

Copies of the complete ICRs are available for inspection and copying in public dockets. They are available in docket USCG 2003-14779 of the Docket Management Facility between 10 a.m. and 5 p.m., Monday through Friday, except Federal holidays; for inspection and printing on the internet at http://dms.dot.gov; and for inspection from the Commandant (G-CIM-2), U.S. Coast Guard, room 6106, 2100 Second Street, SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OIRA. The Coast Guard has already published (68 FR 16065 (April 2, 2003)) the 60-day notice required by OIRA. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collection on respondents, including the use of automated collection techniques or other forms of information technology.

Comments, to DMS or OIRA, must contain the OMB Control Number of the ICR addressed. Comments to DMS must contain the docket number of this request, USCG 2003-14779. Comments to OIRA are best assured of having their full effect if OIRA receives them 30 or fewer days after the publication of this request.

Information Collection Request

1. Title: Vessel Identification System.

OMB Control Number: 1625-0070.

Type of Request: Extension of a currently approved collection.

Affected Public: Governments of States and territories.

Form: This collection of information does not require the public to fill out forms, but does require the information to be collected electronically.

Abstract: The Coast Guard must establish a nationwide vessel-identification system (VIS) and centralize certain vessel-documentation functions. VIS provides participating States and territories with access to data on vessels numbered by States and territories. Participation in it is voluntary.

Annual Estimated Burden Hours: The estimated burden is 6,045 hours a year.

2. Title: Vital System Automation.

OMB Control Number: 1625-0047.

Type of Request: Extension of a currently approved collection.

Affected Public: Designers, manufacturers, and owners of vessels and shipyards.

Form: This collection of information does not require the public to fill out forms, but does require the information to be in written format to the Coast Guard.

Abstract: This collection pertains to the vital-system automation on commercial vessels that is necessary to protect personnel and property on board U.S.-flag vessels.

Annual Estimated Burden Hours: The estimated burden is 57,375 hours a year.

3. Title: Audit Reports under the International Safety Management Code.

OMB Control Number: 1625-0084.

Type of Request: Extension of a currently approved collection.

Affected Public: Owners and operators of vessels, and organizations authorized to issue certificates of compliance with the ISM Code for the United States.

Form: This collection of information does not require the public to fill out forms, but does require the information to be in written format to the Coast Guard.

Abstract: This information helps to determine whether U.S. vessels, subject to SOLAS 74, engaged in international trade, are in compliance with that treaty. Organizations recognized by the Coast Guard conduct ongoing audits of vessels' and companies' safety-management-systems

Annual Estimated Burden Hours: The estimated burden is 8,440 hours a year.

Dated: June 11, 2003.
Clifford I. Pearson,
Director of Information and Technology.

[FR Doc. 03-15301 Filed 6-17-03; 8:45 am]

BILLING CODE 4910-15-P